DEPARTMENT OF ENERGY

Federal Energy Regulatory Commission

Combined Notice of Filings #2

May 23, 2006.

Take notice that the Commission received the following electric rate filings.

Docket Numbers: ER05-6-065; EL04-135-067; EL02-111-085; EL03-212-081.

Applicants: Midwest Independent Transmission System Operator, Inc.

Description: PJM Transmission Owners submits revised tariff sheets to its April 24, 2006 filing.

Filed Date: May 16, 2006.

Accession Number: 20060519-0121.

Comment Date: 5 p.m. Eastern Time on Tuesday, June 6, 2006.

Docket Numbers: ER05-1452-002.

Applicants: Duke Power Company LLC.

Description: Duke Power Company LLC submits an amendment to its Second Revised Service Agreement No. 342 and Affected System Operating Agreement.

Filed Date: May 16, 2006.

Accession Number: 20060519-0088.

Comment Date: 5 p.m. Eastern Time on Tuesday, June 6, 2006.

Docket Numbers: ER06-191-002; ER06-193-002.

Applicants: ISO New England Inc.; New England Participating Transmission Owners; Maine Electric Power Company; New England Power Pool Participants Committee.

Description: ISO New England, Inc. et al. submit modifications to parts of Schedules 22 & 23 of the OATT, et al.

Filed Date: May 15, 2006.

Accession Number: 20060519-0158.

Comment Date: 5 p.m. Eastern Time on Monday, June 5, 2006.

Docket Numbers: ER06-593-002.

Applicants: Southwest Power Pool, Inc.

Description: Southwest Power Pool, Inc. submits the revised agreement as Exhibit I and II to the executed Agreement to Sponsor Facilities Upgrades with Redbud Energy, LP et al. filed on April 26, 2006 pursuant to Order 614.

Filed Date: May 17, 2006.

Accession Number: 20060519-0066.

Comment Date: 5 p.m. Eastern Time on Wednesday, June 7, 2006.

Docket Numbers: ER06-796-001.

Applicants: Emera Energy U.S. Subsidiary No. 2, Inc.

Description: Emera Energy U.S. Subsidiary 2, Inc. submits a letter clarifying its March 29, 2006 filing.

Filed Date: May 15, 2006.

Accession Number: 20060519-0117.

Comment Date: 5 p.m. Eastern Time on Monday, June 5, 2006.

Docket Numbers: ER06-878-001.

Applicants: MMC Chula Vista LLC.

Description: MMC Chula Vista LLC submits a replacement for Attachment A & B to its market-based rate application and tariff sheets for FERC Electric Tariff, Original Volume No. 1.

Filed Date: May 17, 2006.

Accession Number: 20060519-0065.

Comment Date: 5 p.m. Eastern Time on Wednesday, June 7, 2006.

Docket Numbers: ER06-879-001.

Applicants: MMC Escondido LLC.

Description: MMC Escondido LLC submits a replacement for Attachment A & B to its market-based rate application and tariff sheets for FERC Electric Tariff, Original Volume No. 1.

Filed Date: May 17, 2006.

Accession Number: 20060519-0064.

Comment Date: 5 p.m. Eastern Time on Wednesday, June 7, 2006.

Docket Numbers: ER06-891-001.

Applicants: Gauley River Power Partners, L.P.

Description: Gauley River Power Partner, L.P. submits an errata to its notice of cancellation filed on April 27, 2006.

Filed Date: May 17, 2006.

Accession Number: 20060519-0067.

Comment Date: 5 p.m. Eastern Time on Wednesday, June 7, 2006.

Docket Numbers: ER06-1000-000.

Applicants: Entergy Services, Inc.

Description: Entergy Services Inc. on behalf of Entergy Operating Companies submits revisions to Schedule 2 of its OATT.

Filed Date: May 12, 2006.

Accession Number: 20060512-4007.

Comment Date: 5 p.m. Eastern Time on Friday, June 2, 2006.

Docket Numbers: ER06-1001-000.

Applicants: Midwest Independent Transmission System Operator, Inc.

Description: Midwest Independent Transmission System Operator Inc. submits proposed revisions to Schedule 10 of its OAT&EM Tariff, Third Revised Volume No. 1.

Filed Date: May 12, 2006.

Accession Number: 20060519-0058.

Comment Date: 5 p.m. Eastern Time on Friday, June 2, 2006.

Docket Numbers: ER06-1002-000.

Applicants: ISO New England Inc.

Description: ISO New England Inc. submits its first Capital Projects Report and the schedule of the unamortized costs of its funded capital expenditures for the first Quarter of 2006.

Filed Date: May 15, 2006.

Accession Number: 20060519-0059.

Comment Date: 5 p.m. Eastern Time on Monday, June 5, 2006.

Docket Numbers: ER06-1003-000.

Applicants: Mirant Corporation.

Description: Mirant Americas Energy Marketing, LP submits a notice of cancellation of Third Revised Rate Schedule FERC No. 1.

Filed Date: May 15, 2006.

Accession Number: 20060519-0057.

Comment Date: 5 p.m. Eastern Time on Monday, June 5, 2006.

Docket Numbers: ER06-1004-000.

Applicants: Western Systems Power Pool, Inc.

Description: Western Systems Power Pool Inc. submits its request for FERC to amend its WSPP Agreement to include Cinergy Marketing & Trading LP, Mirant Energy Trading LLC and Old Lane Commodities, LP as members of the WSPP.

Filed Date: May 15, 2006.

Accession Number: 20060519-0056.

Comment Date: 5 p.m. Eastern Time on Monday, June 5, 2006.

Docket Numbers: ER06-1005-000.

Applicants: Avista Corporation.

Description: Avista Corp. dba Avista Utilities submits a non-conforming Long-Term Service Agreement with Morgan Stanley Capital Group, designated as FERC Rate Schedule 471.

Filed Date: May 17, 2006.

Accession Number: 20060519-0055.

Comment Date: 5 p.m. Eastern Time on Wednesday, June 7, 2006.

Docket Numbers: ER06-1006-000.

Applicants: International Transmission Company; Midwest Independent Transmission Operator, Inc.

Description: International Transmission Co. et al. submits revised tariff sheets to Midwest ISO's Open Access Transmission and Energy Market Tariff, FERC Electric Tariff, Third Revised Volume 1, to become effective July 1, 2006.

Filed Date: May 17, 2006.

Accession Number: 20060519-0053.

Comment Date: 5 p.m. Eastern Time on Wednesday, June 7, 2006.

Docket Numbers: ER06-1007-000.

Applicants: IEP Power Marketing LLC.

Description: IEP Power Marketing LLC submits a Petition for Acceptance of Initial Waiver and Blanket Authority of FERC Electric Tariff, Original Volume No. 1.

Filed Date: May 17, 2006.

Accession Number: 20060519-0051.

Comment Date: 5 p.m. Eastern Time on Wednesday, June 7, 2006.

Docket Numbers: ER06-1008-000.

Applicants: Southern Company Services, Inc.; Alabama Power Company

Description: Southern Company Services, Inc., agent for Alabama Power Co, submits a notice of cancellation of their Interconnection Agreement with Mobile Energy Services Co. designated as Service Agreement 465.

Filed Date: May 17, 2006.

Accession Number: 20060519-0052.

Comment Date: 5 p.m. Eastern Time on Wednesday, June 7, 2006.

Docket Numbers: ER06-1009-000.

Applicants: Southern California Edison Company.

Description: Southern California Edison Co. submits 4 interconnection agreements with the City of Vernon, CA.

Filed Date: May 17, 2006.

Accession Number: 20060519-0017.

Comment Date: 5 p.m. Eastern Time on Wednesday, June 7, 2006.

Docket Numbers: ER06-1010-000.

Applicants: Southern Company Services, Inc.; Alabama Power Company

Description: Southern Company Services, Inc., agent for Alabama Power Co., submits a notice of cancellation of Interconnection Agreement w/Lone Oak Energy Center etc.

Filed Date: May 17, 2006.

Accession Number: 20060519-0050.

Comment Date: 5 p.m. Eastern Time on Wednesday, June 7, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-8325 Filed 5-30-06; 8:45 am]

BILLING CODE 6717-01-P